DEPARTMENT OF DEFENSE

Department of the Navy

Notice of Public Meetings for the Draft Environmental Impact Statement/Overseas Environmental Impact Statement for Navy Atlantic Fleet Training and Testing

AGENCY: Department of the Navy, DoD.

ACTION: Notice.

SUMMARY: Pursuant to section 102(2)(c) of the National Environmental Policy Act (NEPA) of 1969 and regulations implemented by the Council on Environmental Quality (40 Code of Federal Regulations parts 1500-1508), and Presidential Executive Order (EO) 12114, the Department of the Navy (DoN) has prepared and filed with the U.S. Environmental Protection Agency a Draft Environmental Impact Statement (EIS)/Overseas EIS (OEIS). The Draft EIS/OEIS evaluates the potential environmental effects associated with military readiness training and research, development, test and evaluation activities (training and testing) conducted within the Atlantic Fleet Training and Testing (AFTT) Study Area. The National Marine Fisheries Service (NMFS) is a cooperating agency for the EIS/OEIS.

The Study Area is in the western Atlantic Ocean and encompasses the waters off the east coast of North America and the Gulf of Mexico. The Study Area covers approximately 2.6 million square nautical miles of ocean area, and includes designated DoN operating areas and special use airspace. The following DoN testing ranges and range complexes fall within the Study Area: Northeast Range Complexes; Naval Undersea Warfare Center Division, Newport Testing Range; Virginia Capes Range Complex; Navy Cherry Point Range Complex; Jacksonville Range Complex; South Florida Ocean Measurement Facility Testing Range; Undersea Warfare Training Range; Key West Range Complex; Naval Surface Warfare Center, Panama City Division Testing Range; and Gulf of Mexico Range Complex. The Study Area only includes the at-sea components of these range complexes and testing ranges, with the exception of the Narragansett Bay, lower Chesapeake Bay, St. Andrew Bay. Navy pierside locations and port transit channels where sonar maintenance and testing occur, and bays and civilian ports where training occurs are also included in the Study Area as indicated on the map. The remaining inland waters and land-based portions of the range complexes are not a part of the Study Area and will be or already have been addressed under separate environmental planning documentation.

With the filing of the Draft EIS/OEIS, the DoN is initiating a 60-day public comment period beginning on May 11, 2012 and ending on July 10, 2012. During this period, the DoN will conduct five public meetings to receive oral and written comments on the Draft EIS/OEIS. This notice announces the dates and locations of the public meetings and provides supplementary information about the environmental planning effort.

DATES AND ADDRESSES: Public information and comment meetings will be held at each of the locations listed below between 4:00 p.m. and 8:00 p.m. The meetings will provide individuals with information on the Draft EIS/OEIS in an open house format. DoN and NMFS representatives at informational poster stations will be available during the public meetings to clarify information related to the Draft EIS/OEIS.

The public meetings will be held between 4 p.m. and 8 p.m. on the following dates and at the following locations:

1. May 30, 2012 (Wednesday) at Hotel Providence, 139 Mathewson Street, Providence, RI;

2. June 5, 2012 (Tuesday) at Prime F. Osborn III Convention Center, 1000 Water Street, Jacksonville, FL;

3. June 6, 2012 (Wednesday) Hilton Garden Inn Panama City, 1101 North Highway 231, Panama City, FL;

4. June 11, 2012 (Monday) at Virginia Beach Convention Center, 1000 19th Street, Virginia Beach, VA;

5. June 12, 2012 (Tuesday) at Hampton Inn and Suites Swansboro, 215 Old Hammock Road, Swansboro, NC.

Federal, State and local agencies and officials, and interested groups and individuals are encouraged to provide comments in person at any of the public meetings or in writing anytime during the public comment period. At the public meetings, attendees will be able to submit comments orally using a voice recorder or in writing. Equal weight will be given to oral and written statements. Comments may also be submitted via the U.S. Postal Service to Naval Facilities Engineering Command Atlantic, Attn Code EV22 (AFTT EIS Project Managers), 6506 Hampton Boulevard, Norfolk, VA 23508-1278 or electronically via the project Web site (http://www.AFTTEIS.com). All statements, oral or written, submitted during the public review period will become part of the public record on the Draft EIS/OEIS and will be responded to in the Final EIS/OEIS. All written comments must be post marked or received by July 10, 2012, to ensure they become part of the official record.

FOR FURTHER INFORMATION CONTACT: Naval Facilities Engineering Command Atlantic, Attn Code EV22 (AFTT EIS Project Managers), 6506 Hampton Boulevard, Norfolk, VA 23508-1278.

SUPPLEMENTARY INFORMATION: A Notice of Intent (NOI) to prepare this DEIS/OEIS was published in the Federal Register on July 15, 2010, (75 FR 41163).

The DoN's Proposed Action is to conduct training and testing activities—which may include the use of active sonar and explosives—primarily within existing range complexes and testing ranges along the east coast of the United States, the Gulf of Mexico, Navy pierside locations, port transit channels, and the lower Chesapeake Bay. The purpose of the Proposed Action is to conduct training and testing activities to ensure that the DoN meets its mission to maintain, train, and equip combat-ready U.S. naval forces capable of winning wars, deterring aggression, and maintaining freedom of the seas. This Draft EIS/OEIS will also support the renewal of federal regulatory permits and authorizations for current training and testing activities and to propose future training and testing activities requiring environmental analysis.

The Draft EIS/OEIS evaluates the potential environmental impacts of three alternatives, including the No Action Alternative and two action alternatives. The No Action Alternative continues baseline training and testing activities, as defined by existing DoN environmental planning documents. Alternatives 1 and 2 analyze adjustments to Study Area boundaries and the location, type, and level of training and testing activities necessary to support current and planned DoN training and testing requirements through 2019. The analysis addresses force structure changes, including those resulting from the development, testing, and ultimate introduction of new vessels, aircraft and weapons systems into the fleet.

No significant adverse impacts are identified for any resource area in any geographic location within the Study Area that cannot be mitigated. Additionally, due to the exposure of marine mammals to underwater sound, NMFS has received an application from DoN for a Marine Mammal Protection Act Letter of Authorization and governing regulations to authorize incidental take of marine mammals that may result from the implementation of the activities analyzed in the Draft EIS/OEIS. In accordance with Section 7 of the Endangered Species Act, the DoN is consulting with NMFS and U.S. Fish and Wildlife Service, as appropriate, for potential impacts to federally listed species. In accordance with the Magnuson-Stevens Fishery Conservation and Management Act, the DoN is consulting with NMFS on federally managed species and their essential fish habitat. The DoN will initiate consultation under the National Historic Preservation Act regarding impacts to historic properties, and will comply with other applicable laws and regulations.

The Draft EIS/OEIS was distributed to Federal, State, and local agencies, elected officials, and other interested individuals and organizations. Copies of the Draft EIS/OEIS are available for public review at the following libraries:

1. Anne Arundel County Public Library, Annapolis Area Branch, 1410 West Street, Annapolis, MD 21401.

2. Bay County Public Library, 898 West 11th Street, Panama City, FL 32401.

3. Ben May Main Library, 701 Government Street, Mobile, AL 36602.

4. Boston Public Library, Central Library, 700 Boylston Street, Boston, MA 02116.

5. Camden County Public Library, 1410 Highway 40 E, Kingsland, GA 31548.

6. Carteret County Public Library, 1702 Live Oak Street, Suite 100, Beaufort, NC 28516.

7. Charleston County Public Library, Main Library, 68 Calhoun Street, Charleston, SC 29401.

8. Corpus Christi Public Library, La Retama Library, 805 Comanche, Corpus Christi, TX 78401.

9. East Bank Regional Library, 4747 West Napoleon Avenue, Metairie, LA 70001.

10. Hatteras Library, 57709 Highway 12, Hatteras, NC 27943.

11. Havelock-Craven County Public Library, 301 Cunningham Boulevard, Havelock, NC 28532.

12. Houston Public Library, 500 McKinney Street, Houston, TX 77002.

13. Jacksonville Public Library, Main Library, 303 North Laura Street, Jacksonville, FL 32202.

14. Kill Devil Hills Branch Library, Main Library, 400 Mustian Street, Kill Devil Hills, NC 27948.

15. Meridian-Lauderdale County Public Library, 2517 7th Street, Meridian, MS 39301.

16. New Hanover County Public Library, 201 Chestnut Street, Wilmington, NC 28401.

17. New Orleans Public Library, Main Library, 219 Loyola Avenue, New Orleans, LA 70112.

18. Mary D. Pretlow Anchor Branch Library, 111 West Ocean View Avenue, Norfolk, VA 23503.

19. Onslow County Public Library, 58 Doris Avenue East, Jacksonville, NC 28540.

20. Portland Public Library, 5 Monument Square, Portland, ME 04101.

21. Providence Public Library, 150 Empire Street, Providence, RI 02903.

22. Public Library of New London, 63 Huntington Street, New London, CT 06320.

23. Southmost Branch Library, 4320 Southmost Boulevard, Brownsville, TX 78521.

24. Walton County Coastal Branch Library, 437 Greenway Trail, Santa Rosa Beach, FL 32459.

25. Webb Memorial Library and Civic Center, 812 Evans Street, Morehead City, NC 28557.

26. West Florida Public Library, Main Library, 200 West Gregory Street, Pensacola, FL 32502.

27. West Florida Public Library, Southwest Branch, 12248 Gulf Beach Highway, Pensacola, FL 32507.

28. West Palm Beach Public Library, 411 Clematis Street, West Palm Beach, FL 33401.

Copies of the AFTT Draft EIS/OEIS are available for electronic viewing or download at http://www.AFTTEIS.com. A paper copy of the Executive Summary or a single compact disc of the Draft EIS/OEIS will be made available upon written request by contacting: Naval Facilities Engineering Command Atlantic, Attn Code EV22 (AFTT EIS Project Managers), 6506 Hampton Boulevard, Norfolk, VA 23508-1278.

Dated: May 4, 2012.
J.M. Beal,
Lieutenant Commander, Office of the Judge Advocate General, U.S. Navy, Federal Register Liaison Officer.

[FR Doc. 2012-11410 Filed 5-10-12; 8:45 am]

BILLING CODE 3810-FF-P